UNIFIED CARRIER REGISTRATION PLAN

Sunshine Act Meetings

TIME AND DATE: February 20, 2025, 12 p.m. to 3 p.m., Eastern time.

PLACE: This meeting will be accessible via conference call and via Zoom Meeting and Screenshare. Any interested person may call (i) 1-929-205-6099 (US Toll) or 1-669-900-6833 (US Toll), Meeting ID: 986 9281 6669, to listen and participate in this meeting. The website to participate via Zoom Meeting and Screenshare is https://kellen.zoom.us/meeting/register/tJwrfuugrz0sHN028Q4hJZiFSewa3UkRJhjS.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Subcommittee Action

The agenda will be reviewed, and the Subcommittee will consider adoption.

Ground Rules

Subcommittee action only to be taken in designated areas on the agenda.

IV. Review and Approval of Subcommittee Minutes From the July 25, 2024, Meeting—UCR Audit Subcommittee Chair

For Discussion and Possible Subcommittee Action

Draft minutes from the July 25, 2024, Subcommittee meeting via teleconference will be reviewed. The Subcommittee will consider action to approve.

V. Discuss the Current Evaluation Process for the Upcoming 2024 & 2025 State Annual Audit Report—UCR Audit Subcommittee Chair, UCR Audit Subcommittee Vice-Chair, DSL Transportation, and UCR Executive Director

The Audit Subcommittee Chair, Audit Subcommittee Vice Chair, DSL Transportation, and the UCR Executive Director will lead a discussion on changes made to the 2024 and 2025 evaluation process for the State Annual Audit Report.

For the 2024 audit year, States must comply with three of the five compliance initiatives:

a. FARs closed percentage 80% in Tiers 5 & 6, for Reporting Year.

b. FARs closed percentage 100% in Tiers 4, 5, & 6, 2025, (October-June) current year.

c. Retreat Audits closed 60% in Tiers 5 & 6, for Reporting Year. (The Board had placed a hold on Retreats while the NRS program was being developed.)

d. Registration percentage for Motor Carriers 85% for Reporting Year.

e. Registration percentage for Brokers 60%, for Reporting Year.

f. Unregistered Motor Carriers registration percentage 100% in Tiers 5 & 6, for Reporting Year.

For the 2025 audit year, States must comply with three of the four compliance initiatives:

a. Unregistered Motor Carrier Audits, Tiers 4, 5, and 6, requiring 100% closure for the previous or Reporting Year.

b. Retreat Audits, Tiers 4, 5, and 6, requiring 100% closure for the previous or Reporting Year.

c. FARs Audits, Tiers 4, 5, and 6, requiring 100% closure for (October-June) current year.

d. UCR Violation Audits, requiring 100% closure for the previous or Reporting Year.

* If a State does not receive a FARs Audit, Retreat Audit, or Violation Audit for a specific registration year, the State is considered to have complied with the specific compliance initiative.

VI. Update on the Retreat Audit Program and Consider Options for the Program During the Renewal—The Audit Subcommittee Chair, Audit Subcommittee Vice Chair, DSL Transportation, and Seikosoft Representative

The Audit Subcommittee Chair, Audit Subcommittee Vice Chair, DSL Transportation, and Seikosoft will lead a discussion on the status of the new Retreat Audit Program that utilizes roadside inspection data for an automation driven audit for non-IRP and IRP plated commercial motor vehicles (CMVs).

Specifically, three options the system could consider during renewal are:

• Stop renewal transaction if the motor carrier does not agree.

• Interrupt transaction by showing inspections and send to support for assistance.

• Allow for normal renewal and the creation of a Retreat Audit.

VII. Update the Subcommittee on the FARs Audits for the States That Have Signed Up for the Audit Assistance Program (AAP) and Discuss the Program's Success in General—The Audit Subcommittee Chair, Audit Subcommittee Vice Chair, DSL Transportation

For Discussion and Possible Subcommittee Action

The Audit Subcommittee Chair, Audit Subcommittee Vice Chair, and DSL Transportation will lead a discussion on the status of the AAP, topics will include:

• An updated list of participating States.

• Discuss Missouri FARs success scenario.

• Importance of States to have authority to suspend a non-compliant motor carrier.

• Outreach to delinquent States.

• At what point should the Board assume the duties of a delinquent State, (FARs, Retreat, Unregistered Tiers 4, 5, & 6 and Violation Audits).

• Additional auditor duties include:

○ New Entrant List

○ Intrastate Motor Carriers with an active MC Number

○ Should have been (SHB) Live

○ Intrastate Motor Carriers with interstate trips

○ IRP Monitor

○ Unregistered with Federal Authority

○ Unregistered Brokers

○ Unregistered Motor Carriers

○ Kentucky Activity Tracking System (KATS) List

The Audit Subcommittee may vote to recommend that the UCR Plan Board take action to assume some or all of a delinquent State's required audit compliance initiatives under certain circumstances.

VIII. Update the Subcommittee on the Recent Monthly Question and Answer Session for State Auditors—UCR Audit Subcommittee Chair, UCR Audit Subcommittee Vice-Chair, and UCR Executive Director

The UCR Audit Subcommittee Chair, UCR Audit Subcommittee Vice-Chair and UCR Executive Director will lead a discussion on the value of and topics for the next scheduled 60-minute virtual question and answer session for UCR state auditors on March 13, 2025.

IX. Other Business—UCR Audit Subcommittee Chair

The UCR Audit Subcommittee Chair will call for any other items Subcommittee members would like to discuss.

X. Adjournment—UCR Audit Subcommittee Chair

The UCR Audit Subcommittee Chair will adjourn the meeting.

The agenda will be available no later than 5:00 p.m. Eastern time, February 6, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-02536 Filed 2-7-25; 4:15 pm]

BILLING CODE 4910-YL-P